NATIONAL LABOR RELATIONS BOARD

Notice of Appointments of Individuals To Serve as Members of Performance Review Boards; Corrections

AGENCY: National Labor Relations Board.

ACTION: Notice; correction.

Authority: 5 U.S.C. 4314(c)(4).

SUMMARY: The National Labor Relations Board published a document in the Federal Register of October 2, 2017 identifying the individuals who have been appointed to serve as members of performance review boards. The document contained incorrect dates in the Summary.

FOR FURTHER INFORMATION CONTACT: Gary Shinners, Executive Secretary, National Labor Relations Board, 1015 Half Street SE., Washington, DC 20570, (202) 273-3737 (this is not a toll-free number), 1-866-315-6572 (TTY/TDD).

Correction

In the Federal Register of October 2, 2017, in FR Doc. 82-45905 (Vol. 82, No. 189), on page 45905, in the second column, correct the dates in the SUMMARY to read “October 1, 2016 and ending September 30, 2017.”

Dated: October 5, 2017.
Roxanne Rothschild,
Deputy Executive Secretary.

[FR Doc. 2017-21858 Filed 10-10-17; 8:45 am]

BILLING CODE 7545-01-P